DEPARTMENT OF ENERGY

Federal Energy Regulatory Commission

[Docket No. IC01-721-000, FERC-721]

Proposed Information Collection and Request for Comments

July 26, 2001.

AGENCY: Federal Energy Regulatory Commission, DOE.

ACTION: Request for Office of Management and Budget emergency processing of proposed information collection and request for comments.

SUMMARY: In compliance with the requirements of section 3507(j)(1)of the Paperwork Reduction Act of 1995 (Pub. L. No.104-13), and 5 CFR 1320.13 of the Office of Management and Budget (OMB) regulations, the Federal Energy Regulatory (Commission) is providing notice of its request to OMB for emergency processing of a proposed collection of information in connection with the “Order Imposing Reporting Requirement on Natural Gas Sales to California Market,” issued in Docket No. RM01-9-000. The Commission is soliciting public comment on the specific aspects of the information collection described below.

DATES: The Commission and OMB must receive comments on or before August 1, 2001. Because the Commission has requested OMB to process the proposed collection of information in Docket No. IC01-721-000 on an emergency basis, comments on this collection of information should be filed with OMB, attention FERC Desk Officer, as soon as possible. The Commission is requesting that OMB make a determination on this information collection requirement by August 7, 2001.

ADDRESSES: FERC-721 responses should be filed with the Office of the Secretary (and should refer to Docket No. IC01-721-000), Federal Energy Regulatory Commission,888 First Street, NE., Washington, DC 20426.

FOR FURTHER INFORMATION CONTACT: Richard Howe, Office of the General Counsel, Federal Energy Regulatory Commission, 888 First Street, NE., Washington, DC 20426, (202) 208-1274; Thomas Brownfield, Office of Markets Tariffs and Rates, Federal Energy Regulatory Commission, 888 First Street, NE., Washington, DC 20426, (202) 208-0666.

SUPPLEMENTARY INFORMATION: This reporting requirement is intended to provide the Commission with the necessary information to determine what action if any, it should take within its jurisdiction, with respect to the price of natural gas sold in the California market. Specifically, the Commission wants to understand better how the California natural gas market functions in light of the fact that the price of natural gas in the California market has, for substantial periods been higher than the prices in other markets and trading hubs throughout the country. The Commission is also concerned about the operation of the California natural gas market since gas-fired generators in California help to establish the market clearing price for electric generation pursuant to the bidding system used by the California Independent System Operator. The Commission intends to collect information on the volumes, and prices of sales to the California market including transportation rates, the daily operational capacity of pipelines to, and in the California market, and the actual volumes flowing to, and in California, plus gas sales and transportation requirements of local distribution companies.

The information is to assist the Commission in carrying out its regulatory responsibilities. First, it will help the Commission determine what part of the problem, if any, is within the scope of its jurisdiction. The information proposed to be collected will give the Commission an accurate picture of overall average gas costs being incurred by all purchasers of natural gas moving into the California market. The information to be collected will also enable the Commission to determine the extent to which the cost of interstate transportation, which is subject to the Commission's jurisdiction, affects the price for the gas commodity at the California border.

The Commission's need for this information is enhanced by the relationship of natural gas prices and the price for electric power. On June 19, 2001, the Commission issued an order involving price mitigation for the California power markets. In the mitigation plan, electric generators' price bids during reserve emergencies must reflect the marginal cost of obtaining natural gas used for generation. That number is derived by using an average of the midpoint of the monthly bid-week prices at certain reported California natural gas market price points. Thus, the price for electric power would be dependent, to some extent on the price of natural gas at certain California market points.

Accordingly, because the Commission requires the information as soon as possible, the Commission will require submission of the information on a monthly basis, to be submitted 30 days after the end of each month, for the six months commencing August 1, 2001 and ending January 31, 2002. The first report will be due October 1, 2001. The Commission in a separate action will request OMB approval to extend the reporting period to September 30, 2002, to coincide with the termination of the Commission's June 19, 2001 California electric power mitigation order.

The information will enable the Commission and its staff to carry out their regulatory responsibilities of determining the extent to which the high price of natural gas involves a matter over which the Commission has jurisdiction under the Natural Gas Act and what actions if any, the Commission should take within its jurisdiction.

Background

On May 18, 2001, the Commission issued an Order in Docket No. RM01-09-000 proposing reporting requirements for natural gas sales to and in the California market and requested comments on this proposal. The reporting requirements are in response to the fact, prices of natural gas in California rose dramatically and exceeded the increases in other markets. Several complaints have requested the Commission to take various actions as identified in the Order. In response to these complaints the Commission needs to determine what part of the problem, if any is within the scope of its jurisdiction and what actions within that jurisdiction would be appropriate. The information provided so far by complainant and intervening parties has not been adequate to make these determinations.

The Commission's statutory obligations contained in the Natural Gas Act are to regulate the transportation of natural gas by interstate pipelines, and Section 7 of the Natural Gas Act (NGA) also authorizes the Commission to issue certificates for the construction of new interstate pipelines. The Commission also has jurisdiction to regulate sales for resale of domestic gas by pipelines, LDCs, and their affiliates. These obligations authorize the Commission to ensure that the rates, terms and conditions of service for natural gas pipeline companies within the Commission's jurisdiction are just and reasonable. To enable the Commission to fulfill this duty, the NGA authorizes the Commission to conduct investigations of, and collect information. If after the investigation, the Commission is of the opinion that rates within its jurisdiction are “unjust and unreasonable or unjustly discriminatory or unduly preferential,” the Commission is authorized to determine and prescribe just and reasonable rates. The NGA also provides the Commission with the ability to consider the reasonableness of rates through settlement conferences or hearings.

Information Collection Statement

The Paperwork Reduction Act of 1995, 44 U.S.C. 3507, and Office of Management and Budget (OMB) implementing regulations at 5 CFR 1320.10 require OMB to approve certain reporting and recordkeeping requirements (collections of information) imposed by a federal agency. Upon approval of a collection of information, OMB will assign an OMB control number and an expiration date.

The proposed information collection request will be done under a temporary data collection, FERC-721, “Reporting of Natural Gas Sales to the California Market” (OMB Control No. to be assigned). The respondents will be natural gas pipelines, marketers and local distribution companies. Responses to the information collection request will be mandatory.

Burden Statement: Public reporting burden for this collection is estimated as:

Number of respondents annually (1) | Number of responses per respondent (2) | Average burden hours per response (3) | Total annual burden hours (1)×(2)×(3)
89 | *534 | 208 | 19,847
* Initial Reports: 178 Hours Per Respondent for data collection=15,842 hours 30 hours per respondent for utilizing Information technology=2,670 hours. Subsequent reports: 3 hrs. per respondent=1,335 hours.

Estimated cost burdens to respondents: The Commission estimates that it will cost each respondent $25,096 to respond to this information collection request for a total cost of $2,2334,570 (19,857 ÷ 2,080 hours × $117,041).

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise disclosing the information.

The estimate of cost for respondents is based upon salaries for professionals and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collection of information is necessary for the proper performance of the functions of the Commission, including whether the information will have practical utility; (2) the accuracy of the agency's estimate of the burden of the proposed collection of information, including the validity of the methodology and assumptions used; (3) ways to enhance the quality, utility and clarity of the information to be collected; and (4) ways to minimize the burden of the collection of information on those who are to respond, including the use of appropriate automated, electronic, mechanical, or other technological collection techniques or other forms of information technology e.g. permitting electronic submission of responses.

For copies of the OMB submission, contact Michael Miller at (202) 208-1415. Interested persons may send comments regarding these burden estimates or any other aspect on the proposed information collection, including suggestions for reductions of burden, to the Desk Officer FERC, Office of Management and Budget, Room 10202 NEOB, Washington, DC 20503, phone (202) 395-7318 or by fax at (202) 395-7285. A copy of any comments filed with OMB should also be sent to Michael Miller, Office of the Chief Information Officer, CI-1, 888 First Street NE., Washington, DC 20426. Michael Miller may also be reached by fax at (202) 208-2425, and by e-mail at mike.miller@ferc.fed.us.

Document Availability

In addition to publishing the full text of this document in the Federal Register, the Commission also provides interested persons an opportunity to inspect or copy contents of this document during normal business hours in the Public Reference Room at 888 First Street, NE., Room 2A, Washington, DC 20426. Additionally, comments may be viewed and printed remotely via the Internet through FERC's home page, www.ferc.gov, and in FERC's Public Reference Room during normal business hours (8:30 a.m. to 5:00 p.m. Eastern time) at 888 First Street, NE., Room 2A, Washington, DC 20426.

The Commission Issuance Posting System (CIPS) provides access to the texts of formal documents issued by the Commission from November 14, 1994, to the present. CIPS can be accessed via the Internet through FERC's Home Page, www.ferc.gov and using the CIPS link or the Energy Information Online icon. Documents will be available on CIPS in ASCII and Word Perfect 6.1. User assistance is available at (202) 208-0874 or by E-mail to cips.master@ferc.fed.us.

This document is also available through the Commission's Records and Information Management System (RIMS), an electronic storage and retrieval system of documents submitted to and issued by the Commission after November 16, 1981. Documents from November 1995 to the present can be viewed and printed. RIMS is available in the Public Reference Room or remotely via Internet through FERC's Homepage using the RIMS link or the Energy Information Online icon. User assistance is available at 202-208-2222, or by E-mail to rimsmaster@ferc.fed.us.

Finally, the complete text on diskette in Word perfect format may be purchased from the Commission's copy contractor, RVJ International, Inc. located in the Public Reference Room at 888 First Street, NE., Washington, DC 20426.

Linwood A. Watson, Jr.,
Acting Secretary.

[FR Doc. 01-19109 Filed 7-31-01; 8:45 am]

BILLING CODE 6717-01-P